DEPARTMENT OF TRANSPORTATION

Federal Aviation Administration

14 CFR Part 39

[Docket No. FAA-2014-0138; Directorate Identifier 2013-NM-020-AD]

RIN 2120-AA64

Airworthiness Directives; Airbus Airplanes

AGENCY: Federal Aviation Administration (FAA), DOT.

ACTION: Notice of proposed rulemaking (NPRM).

SUMMARY: We propose to supersede airworthiness directive (AD) 95-24-04, that applies to all Airbus Model A300 series airplanes; Model A300 B4-600, B4-600R, and F4-600R series airplanes, and Model A300 C4-605R Variant F airplanes (collectively called Model A300-600 series airplanes). AD 95-24-04 requires repetitive inspections to detect cracks at the aft spar web of the wings, and repair if necessary. Since we issued AD 95-24-04, we have determined that the inspection threshold and interval must be reduced to allow timely detection of cracks and accomplishment of applicable repairs, because of cracking in the rear spar web of the wings between certain ribs due to fatigue-related high shear stress. This proposed AD would reduce the inspection compliance time and interval, and would expand the applicability to airplanes on which a certain Airbus modification has been embodied in production and to airplanes on which a certain Airbus service bulletin has been embodied in service. We are proposing this AD to detect and correct fatigue-related cracking, which could result in reduced structural integrity of the wing.

DATES: We must receive comments on this proposed AD by April 28, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the MCAI, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Comments Invited

We invite you to send any written relevant data, views, or arguments about this proposed AD. Send your comments to an address listed under the ADDRESSES section. Include “Docket No. FAA-2014-0138; Directorate Identifier 2013-NM-020-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On November 9, 1995, we issued AD 95-24-04, Amendment 39-9436 (60 FR 58213, November 27, 1995). AD 95-24-04 required actions intended to address an unsafe condition on all Airbus Model A300 series airplanes; Model A300 B4-600, B4-600R, and F4-600R series airplanes, and Model A300 C4-605R Variant F airplanes (collectively called Model A300-600 series airplanes).

Since we issued AD 95-24-04, Amendment 39-9436 (60 FR 58213, November 27, 1995), the European Aviation Safety Agency (EASA), which is the Technical Agent for the Member States of the European Community, has issued EASA Airworthiness Directive 2013-0013R1, dated February 20, 2013 (referred to after this as the Mandatory Continuing Airworthiness Information, or “the MCAI”), to correct an unsafe condition for the specified products. The MCAI states:

Wing fatigue tests carried out by Airbus revealed cracks on the vertical web of the rear spar between Ribs 1 and 2. Similar cracks in the same area were reportedly found by A300 aeroplane operators. In all cases, the cracks ran from the tip of the build slot to the nearest adjacent bolt hole.

This condition, if not detected and corrected, could affect the structural integrity of the aeroplane.

To address this unsafe condition, DGAC [Direction Générale de l'Aviation Civile] France issued * * * [an AD] to require an eddy current inspection of the aft face of the wing rear spar in the area adjacent to the build slot on Left Hand (LH) and Right Hand (RH) wings.

Since that [French] AD was issued, a fleet survey and updated fatigue and damage tolerance analysis were performed in order to substantiate the second A300-600 Extended Service Goal (ESG2) exercise. The results of the survey and analysis showed that the inspection threshold and interval must be reduced to allow timely detection of cracks and accomplishment of an applicable corrective action.

Prompted by these findings, Airbus issued Airbus Service Bulletin (SB) A300-57-6059 Revision 04.

For the reasons described above, this [EASA] AD retains the requirements of DGAC France AD 1997-375-239(B)R3, which is superseded, but redefines the thresholds and intervals. This [EASA] AD also expands the applicability to aeroplanes on which Airbus modification (mod) 12102 has been embodied in production and to aeroplanes on which Airbus SB A300-57-6063 (Airbus mod 11130) has been embodied in service.

You may examine the MCAI in the AD docket on the Internet at http://www.regulations.gov by searching for and locating it in Docket No. FAA-2014-0138.

Relevant Service Information

Airbus has issued Mandatory Service Bulletin A300-57-6059, Revision 04, dated February 22, 2011. The actions described in this service information are intended to correct the unsafe condition identified in the MCAI.

For pre-Airbus Modification 11130 (Airbus Service Bulletin A300-57-6063) airplanes, the compliance times are dependent on airplane configuration and utilization. The initial inspection thresholds described in Airbus Mandatory Service Bulletin A300-57-6059, Revision 04, dated February 22, 2011, range between 18,000 and 23,300 total flight cycles, and between 29,100 and 46,600 total flight hours. The “grace period” specified in Airbus Mandatory Service Bulletin A300-57-6059, Revision 04, dated February 22, 2011, is either 1,000 flight cycles, or 1,600 flight hours, or 2,100 flight hours. The repetitive inspection interval ranges between 4,800 and 6,100 flight cycles, and between 7,700 and 12,300 flight hours.

For post-Airbus Modification 11130 (Airbus Service Bulletin A300-57-6063) airplanes or post-Airbus production Modification 12102 airplanes, the compliance times are dependent on airplane configuration and utilization. The initial inspection thresholds described in Airbus Mandatory Service Bulletin A300-57-6059, Revision 04, dated February 22, 2011, range between 29,900 and 38,700 total flight cycles, and between 48,400 and 77,500 total flight hours. The “grace period” specified in Airbus Mandatory Service Bulletin A300-57-6059, Revision 04, dated February 22, 2011, is either 800 or 1,000 flight cycles, or 1,200 or 1,700 flight hours. The repetitive inspection interval ranges between 5,100 and 6,500 flight cycles, or between 8,200 and 13,100 flight hours.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Repair Approvals

In many FAA transport ADs, when the service information specifies to contact the manufacturer for further instructions if certain discrepancies are found, we typically include in the AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a Design Approval Holder (DAH) as a method of compliance with this provision in FAA ADs. Frequently, in these cases, the previously approved repair instructions come from the airplane structural repair manual or the DAH repair approval statements that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, certain requirements of this proposed AD specify that the repair approval specifically refer to the FAA AD. This change is intended to clarify the method of compliance and to provide operators with better visibility of repairs that are specifically developed and approved to correct the unsafe condition. In addition, we use the phrase “its delegated agent, or the DAH with State of Design Authority design organization approval, as applicable” in this proposed AD to refer to a DAH authorized to approve certain required repairs for this proposed AD.

Differences Between This AD and the MCAI or Service Information

Although the MCAI or service information allows further flight after cracks are found during compliance with the required action, paragraphs (k) and (n) of this proposed AD would require that you repair any cracking before further flight.

Costs of Compliance

We estimate that this proposed AD affects 71 products of U.S. registry.

We estimate the following costs to comply with this proposed AD:

Estimated Costs
Action | Labor cost | Parts cost | Cost per product | Cost on U.S. operators
Inspection [actions retained from AD 95-24-04, Amendment 39-9436 (60 FR 58213, November 27, 1995)] | 3 work-hour × $85 per hour = $255 per inspection cycle | $0 | $255 per inspection cycle | $18,105 per inspection cycle.
Inspection [new proposed action] | 3 work-hour × $85 per hour = $255 per inspection cycle | 0 | $255 per inspection cycle | $18,105 per inspection cycle.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 95-24-04, Amendment 39-9436 (60 FR 58213, November 27, 1995), and adding the following new AD:

Airbus: Docket No. FAA-2014-0138; Directorate Identifier 2013-NM-020-AD.

(a) Comments Due Date

We must receive comments by April 28, 2014.

(b) Affected ADs

This AD supersedes AD 95-24-04, Amendment 39-9436 (60 FR 58213, November 27, 1995).

(c) Applicability

This AD applies to the Airbus airplanes specified in paragraphs (c)(1) through (c)(5) of this AD, certificated in any category, all manufacturer serial numbers.

(1) Airbus Model A300 B2-1A, B2-1C, B2K-3C, B2-203, B4-2C, B4-103, and B4-203 airplanes.

(2) Airbus Model A300 B4-601, B4-603, B4-620, and B4-622 airplanes

(3) Airbus Model A300 B4-605R and B4-622R airplanes.

(4) Airbus Model A300 F4-605R airplanes.

(5) Airbus Model A300 C4-605R Variant F airplanes.

(d) Subject

Air Transport Association (ATA) of America Code 57, Wings.

(e) Reason

This AD was prompted by a determination that the inspection compliance time and interval must be reduced to allow timely detection of cracks and accomplishment of applicable repairs if necessary because of cracking in the rear spar web of the wings between certain ribs due to fatigue-related high shear stress. We are issuing this AD to detect and correct fatigue-related cracking, which could result in reduced structural integrity of the wing.

(f) Compliance

You are responsible for having the actions required by this AD performed within the compliance times specified, unless the actions have already been done.

(g) Retained Inspection of Model A300 B2 Series Airplanes

This paragraph restates the requirements of paragraph (a) of AD 95-24-04, Amendment 39-9436 (60 FR 58213, November 27, 1995), with no changes. For Model A300 B2 series airplanes: Prior to the accumulation of 18,000 total flight cycles, or within 1,400 flight cycles after December 27, 1995 (the effective date of AD 95-24-04), whichever occurs later, perform a high frequency eddy current (HFEC) inspection to detect cracks at the aft spar web of the wings, in accordance with Airbus Service Bulletin A300-57-0213, dated August 12, 1994. Repeat the inspection thereafter at intervals not to exceed 5,000 flight cycles.

(h) Retained Inspection of Model A300B4-103, and B4-2C Series Airplanes

This paragraph restates the requirements of paragraph (b) of AD 95-24-04, Amendment 39-9436 (60 FR 58213, November 27, 1995), with no changes. For Model A300 B4-103, and B4-2C series airplanes: Prior to the accumulation of 19,000 total flight cycles, or within 1,400 flight cycles after December 27, 1995 (the effective date of AD 95-24-04), whichever occurs later, perform an HFEC inspection to detect cracks at the aft spar web of the wings, in accordance with Airbus Service Bulletin A300-57-0213, dated August 12, 1994. Repeat the inspection thereafter at intervals not to exceed 6,000 flight cycles.

(i) Retained Inspection of Model A300B4-200 Series Airplanes

This paragraph restates the requirements of paragraph (c) of AD 95-24-04, Amendment 39-9436 (60 FR 58213, November 27, 1995), with no changes. For Model A300 B4-200 series airplanes: Prior to the accumulation of 17,000 total flight cycles, or within 1,400 flight cycles after December 27, 1995 (the effective date of AD 95-24-04), whichever occurs later, perform an HFEC inspection to detect cracks at the aft spar web of the wings, in accordance with Airbus Service Bulletin A300-57-0213, dated August 12, 1994. Repeat the inspection thereafter at intervals not to exceed 5,000 flight cycles.

(j) Retained Inspection of Model A300-600 B4-601, B4-603, B4-620, B4-622, B4-605R, B4-622R, and F4-605R Series Airplanes

This paragraph restates the requirements of paragraph (d) of AD 95-24-04, Amendment 39-9436 (60 FR 58213, November 27, 1995), with no changes. For Model A300-600 B4-601, B4-603, B4-620, B4-622, B4-605R, B4-622R, and F4-605R series airplanes: Prior to the accumulation of 21,600 flight cycles, perform an HFEC inspection to detect cracks at the aft spar web of the wings, in accordance with Airbus Service Bulletin A300-57-6059, dated August 12, 1994. Repeat the inspection thereafter at intervals not to exceed 5,700 flight cycles. Accomplishment of the initial inspection required by paragraph (l) of this AD terminates the requirements of this paragraph.

(k) Retained Repairs

This paragraph restates the requirements of paragraph (e) of AD 95-24-04, Amendment 39-9436 (60 FR 58213, November 27, 1995), with new actions.

(1) Before the effective date of this AD, if any crack is detected during any inspection required by paragraphs (g) though (j) of this AD: Prior to further flight, repair the crack, in accordance with Airbus Service Bulletin A300-57-0213, dated August 12, 1994; or Airbus Service Bulletin A300-57-6059, dated August 12, 1994; as applicable; or in accordance with a method approved by the Manager, International Branch, ANM-116, Transport Airplane Directorate, FAA.

(2) As of the effective date of this AD, if any crack is detected during any inspection required by paragraphs (g) though (j) of this AD: Before further flight, repair the crack, in accordance with Airbus Service Bulletin A300-57-0213, dated August 12, 1994 (for Model A300 B2 series airplanes, and Model A300 B4-103 and B4-2C series airplanes); or Airbus Mandatory Service Bulletin A300-57-6059, Revision 04, dated February 22, 2011 (for Model A300-600 B4-601, B4-603, B4-620, B4-622, B4-605R, B4-622R, and F4-605R series airplanes); except if Airbus Service Bulletin A300-57-0213, dated August 12, 1994; or Airbus Mandatory Service Bulletin A300-57-6059, Revision 04, dated February 22, 2011; specifies to contact Airbus for an approved repair, before further flight, repair the crack using a method approved by either the Manager, International Branch, ANM-116, Transport Airplane Directorate, FAA; or the European Aviation Safety Agency (EASA) (or its delegated agent, or the Design Approval Holder with the EASA design organization approval, as applicable). For a repair method to be approved, the repair approval must specifically refer to this AD.

(l) New Repetitive Inspections

For airplanes identified in paragraphs (c)(2) through (c)(5) of this AD: At the later of the compliance times specified in paragraph (l)(1) and (l)(2) of this AD, perform an HFEC inspection to detect cracks of the aft face of the wing rear spar web in the area adjacent to the build slot, in accordance with the Accomplishment Instructions of Airbus Mandatory Service Bulletin A300-57-6059, Revision 04, dated February 22, 2011. Repeat the inspection thereafter at the applicable compliance time specified in Airbus Mandatory Service Bulletin A300-57-6059, Revision 04, dated February 22, 2011, except as specified in paragraph (m) of this AD. Accomplishment of the initial inspection required by this paragraph terminates the requirements of paragraph (j) of this AD.

(1) At the earlier of the applicable compliance times specified in the “Threshold Inspection” column in table 1 through table 4 of paragraph 1.E., “Compliance,” of Airbus Mandatory Service Bulletin A300-57-6059, Revision 04, dated February 22, 2011. Where Airbus Mandatory Service Bulletin A300-57-6059, Revision 04, dated February 22, 2011, specifies “(FH)” and “(FC)” in the “Threshold Inspection” columns, this AD specifies “total flight hours” and “total flight cycles.”

(2) At the earlier of the applicable compliance times specified in the “Grace Period” column in table 1 through table 4 of paragraph 1.E., “Compliance,” of Airbus Mandatory Service Bulletin A300-57-6059, Revision 04, dated February 22, 2011. Where Airbus Mandatory Service Bulletin A300-57-6059, Revision 04, dated February 22, 2011, specifies “(FH)” and “(FC)” in the “Grace Period” columns, this AD specifies “flight hours” and “flight cycles.” Where Airbus Mandatory Service Bulletin A300-57-6059, Revision 04, dated February 22, 2011, specifies a grace period, this AD requires compliance within the specified compliance time after the effective date of this AD.

(m) Compliance Time Exceptions

The repetitive inspection required by paragraph (l) of this AD is to be accomplished at the earlier of the applicable compliance time specified in column “Repeat Interval” of table 1 through table 4 of Airbus Mandatory Service Bulletin A300-57-6059, Revision 04, dated February 22, 2011. Where Airbus Mandatory Service Bulletin A300-57-6059, Revision 04, dated February 22, 2011, specifies “(FC)” and “(FH)” in the “Repeat Interval” columns, this AD specifies “flight hours” and “flight cycles.”

(n) New Repair

If any crack is detected during any inspection required by paragraph (l) of this AD: Before further flight, repair the crack, in accordance with the Accomplishment Instructions of Airbus Mandatory Service Bulletin A300-57-6059, Revision 04, dated February 22, 2011. Where Airbus Mandatory Service Bulletin A300-57-6059, Revision 04, dated February 22, 2011, specifies to contact Airbus for an approved repair: Before further flight, repair the crack using a method approved by either the Manager, International Branch, ANM-116, Transport Airplane Directorate, FAA; or the European Aviation Safety Agency (EASA) (or its delegated agent, or the Design Approval Holder with the EASA design organization approval, as applicable). For a repair method to be approved, the repair approval must specifically refer to this AD. Repair of any cracking as required by this paragraph does not terminate the repetitive inspections required by paragraph (l) of this AD.

(o) Credit for Previous Actions

(1) This paragraph provides credit for the actions required by paragraphs (j) and (k) of this AD, if those actions were performed before the effective date of this AD using Airbus Service Bulletin A300-57-6059, dated August 12, 1994.

(2) This paragraph provides credit for the actions required by paragraphs (j), (k), (l), and (n) of this AD, if those actions were performed before the effective date of this AD using Airbus Service Bulletin A300-57-6059, Revision 03, dated October 25, 1999, which is not incorporated by reference in this AD.

(p) Other FAA AD Provisions

The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA approved. Corrective actions are considered FAA-approved if they were approved by the State of Design Authority (or its delegated agent, or the Design Approval Holder with a State of Design Authority's design organization approval, as applicable). You are required to ensure the product is airworthy before it is returned to service.

(q) Related Information

(1) Refer to Mandatory Continuing Airworthiness Information (MCAI) Airworthiness Directive 2013-0013R1, dated February 20, 2013, for related information. This MCAI may be found in the AD docket on the Internet at http://www.regulations.gov by searching for and locating it in Docket No. FAA-2014-0138.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Issued in Renton, Washington, on February 28, 2014.
Jeffrey E. Duven,
Manager, Transport Airplane Directorate, Aircraft Certification Service.

[FR Doc. 2014-05436 Filed 3-11-14; 8:45 am]

BILLING CODE 4910-13-P